COMMITTEE FOR THE IMPLEMENTATION OF TEXTILE AGREEMENTS

Denial of Commercial Availability Request Under the United States—Caribbean Basin Trade Partnership Act (CBTPA)

October 5, 2004.

AGENCY: The Committee for the Implementation of Textile Agreements (CITA).

ACTION: Denial of the request alleging that certain woven fabrics, of the specifications detailed below, for use in apparel articles, cannot be supplied by the domestic industry in commercial quantities in a timely manner under the CBTPA.

SUMMARY: On August 3, 2004 the Chairman of CITA received four petitions from Sharretts, Paley, Carter & Blauvelt, P.C., on behalf of Fishman & Tobin, alleging that certain woven fabrics, of the specifications detailed below, classified in the indicated subheadings of the Harmonized Tariff Schedule of the United States (HTSUS), for use in apparel articles, cannot be supplied by the domestic industry in commercial quantities in a timely manner. It requested that apparel of such fabrics be eligible for preferential treatment under the CBTPA. Based on currently available information, CITA has determined that these subject fabrics can be supplied by the domestic industry in commercial quantities in a timely manner and therefore denies the request.

FOR FURTHER INFORMATION CONTACT: Martin J. Walsh, International Trade Specialist, Office of Textiles and Apparel, U.S. Department of Commerce, (202) 482-2818.

SUPPLEMENTARY INFORMATION:

Authority: Section 213(b)(2)(A)(v)(II) of the Caribbean Basin Economic Recovery Act, as added by Section 211(a) of the CBTPA; Section 6 of Executive Order No. 13191 of January 17, 2001.

Background:

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more CBTPA beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On August 3, 2004, the Chairman of CITA received four petitions from Sharretts, Paley, Carter & Blauvelt, P.C., on behalf of Fishman & Tobin, alleging that certain woven fabrics, of the specifications detailed below, classified in the indicated subheadings of the Harmonized Tariff Schedule of the United States (HTSUS), for use in apparel articles, cannot be supplied by the domestic industry in commercial quantities in a timely manner and requesting quota- and duty-free treatment under the CBTPA for apparel articles that are both cut and sewn in one or more CBTPA beneficiary countries from such fabrics. The petition for Fabric Number 2 was subsequently withdrawn.

On August 9, 2004, CITA solicited public comments regarding the three petitions (69 FR 48224), particularly with respect to whether these fabrics can be supplied by the domestic industry in commercial quantities in a timely manner. On August 25, 2004, CITA and the Office of the U.S. Trade Representative offered to hold consultations with the relevant Congressional committees. We also requested the advice of the U.S. International Trade Commission and the relevant Industry Trade Advisory Committees.

Based on the information provided, including review of the petitions, public comments, advice received, and our knowledge of the industry, CITA has determined that certain woven fabrics, of the specifications detailed below, classified in the indicated subheadings of the Harmonized Tariff Schedule of the United States (HTSUS), for use in apparel articles, can be supplied by the domestic industry in commercial quantities in a timely manner. Sharretts, Paley, Carter & Blauvelt's requests are denied.

Specifications:

Fabric 1 | Twill Fabric
HTS Subheadings: | 5208.33.00.00 & 5209.32.00.20
Fiber Content: | 100% Cotton
Width: | 57/58 inches
Construction: | Two-ply in the warp and fill, of combed cotton ring spun yarns, 132 × 67, yarn sizes 40 × 2/21 × 2
Dyeing: | Continuous Dyeing
Fabric 3 | Fancy polyester filament fabric
HTS Subheading: | 5407.52.20.20, 5407.52.20.60, 5407.53.20.20 & 5407.53.20.60
Fiber Content: | 100% Polyester
Width: | 58/60 inches
Construction: | Plain, twill and satin weaves, in combinations of 75 denier, 100 denier, 150 denier, and 300 denier yarn sizes, with mixes of 25% cationic/75% disperse, 50% cationic/50% disperse, and 100% cationic.
Dyeing: | (Piece) dyed or of yarns of different colors
Fabric 4 | 190T polyester lining fabric
HTS Subheading: | 5407.61.99.25-35
Fiber Content: | 100% Polyester
Construction: | 110 × 80, 68 denier × 68 denier
Dyeing: | Jet overflow and jet spinning methods

James C. Leonard III,
Chairman, Committee for the Implementation of Textile Agreements.

[FR Doc. E4-2570 Filed 10-8-04; 9:45 am]

BILLING CODE 3510-DR-S